DEPARTMENT OF EDUCATION

Notice of Proposed Information Collection Requests

AGENCY: Department of Education.

ACTION: Notice of Proposed Information Collection Requests.

SUMMARY: The IC Clearance Official, Regulatory Information Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by July 17, 2008. A regular clearance process is also beginning. Interested persons are invited to submit comments on or before September 15, 2008.

ADDRESSES: Written comments regarding the emergency review should be addressed to the Office of Information and Regulatory Affairs, Attention: Education Desk Officer, Office of Management and Budget; 725 17th Street, NW., Room 10222, New Executive Office Building, Washington, DC 20503. Commenters are encouraged to submit responses electronically by e-mail to oira_submission@omb.eop.gov or via fax to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The IC Clearance Official, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: July 10, 2008.
Angela C. Arrington,
IC Clearance Official, Regulatory Information Management Services, Office of Management.

Office of the Under Secretary

Type of Review: New.

Title: Study of Pell Grant Recipients Who Transfer Among Eligible Institutions.

Abstract: This is a request for clearance for a survey of Pell Grant recipients who transferred from one institution to another. The general purpose of the survey is to determine the satisfaction of Pell Grant recipients with the financial aid process, while a more specific purpose is to identify and describe problems that Pell Grant recipients may encounter when attempting to transfer credits/courses from one institution to another.

Additional Information:

The U.S. Department of Education (the Department) requests that OMB grant an emergency clearance of the Study of Pell Grant Recipients Who Transfer Among Eligible Institutions. This study is designed to determine the satisfaction of Pell Grant recipients with the financial aid process and to identify and describe problems that they may encounter when attempting to transfer credits/courses from one institution to another. This study is particularly relevant, given the timing of the following factors: First, the Congress is currently working on reauthorization for the Higher Education Act/reauthorization will likely include new requirements for disclosing institutions' transfer of credit policies. Implementation of these requirements by the Department would be best informed by the results of this study. Second, the Department of Education currently has the best sample with the most recent contact information for the population of interest. Given that this population is particularly difficult to reach, there is significant risk that our sample may degrade if we delay data collection further. Finally the information obtained from this study will assist in improving the Department's customer service functions for students who receive federal student aid for the 2009-10 school year. Data from this study will inform messaging to federal student aid applicants who appear to transfer to ensure that the credits that they have earned are considered by their receiving institution. Delays in conducting this study would prevent the Department from providing this service to federal student aid applicants. We respectfully request OMB approval by July 17, 2008.

Frequency: On occasion.

Affected Public: Individuals or households.

Reporting and Recordkeeping Hour Burden:

Responses: 1,500.

Burden Hours: 375.

Requests for copies of the proposed information collection request may be accessed from http://edicsweb.ed.gov, by selecting the “Browse Pending Collections” link and by clicking on link number 3758. When you access the information collection, click on “Download Attachments” to view. Written requests for information should be addressed to U.S. Department of Education, 400 Maryland Avenue, SW., Potomac Center, 9th Floor, Washington, DC 20202-4700. Requests may also be electronically mailed to the Internet address ICDocketMgr@ed.gov or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-16151 Filed 7-15-08; 8:45 am]

BILLING CODE 4000-01-P